DEPARTMENT OF ENERGY

Federal Energy Regulatory Commission

Combined Notice of Filings #2

Take notice that the Commission received the following electric rate filings:

Docket Numbers: ER17-1774-000.

Applicants: NextEra Energy Bluff Point, LLC.

Description: Baseline eTariff Filing: NextEra Energy Bluff Point, LLC Application for Market-Based Rates to be effective 8/7/2017.

Filed Date: 6/8/17.

Accession Number: 20170608-5077.

Comments Due: 5 p.m. ET 6/29/17.

Docket Numbers: ER17-1775-000.

Applicants: Arizona Public Service Company.

Description: § 205(d) Rate Filing: Rate Schedule No. 265, Amendment No. 1 PV-Morgan 500kV to be effective 8/8/2016.

Filed Date: 6/8/17.

Accession Number: 20170608-5083.

Comments Due: 5 p.m. ET 6/29/17.

Docket Numbers: ER17-1776-000.

Applicants: Southwest Power Pool, Inc.

Description: § 205(d) Rate Filing: Bylaws 3.1 and 3.3.2 Revisions (Chair and Vice Chair Terms) to be effective 8/7/2017.

Filed Date: 6/8/17.

Accession Number: 20170608-5096.

Comments Due: 5 p.m. ET 6/29/17.

Docket Numbers: ER17-1777-000.

Applicants: Midcontinent Independent System Operator Inc., Entergy Services, Inc.

Description: Compliance filing: 2017-06-08_Filing to implement Entergy settlement in Docket No. ER16-227 to be effective 1/1/2016.

Filed Date: 6/8/17.

Accession Number: 20170608-5117.

Comments Due: 5 p.m. ET 6/29/17.

Take notice that the Commission received the following electric reliability filings:

Docket Numbers: RR17-5-000.

Applicants: North American Electric Reliability Corporation.

Description: Petition of the North American Electric Reliability Corporation for Approval of Amendments to the Western Electricity Coordinating Council Regional Reliability Standards Development Procedures.

Filed Date: 6/8/17.

Accession Number: 20170608-5107.

Comments Due: 5 p.m. ET 6/29/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2017.
Kimberly D. Bose,
Secretary.

[FR Doc. 2017-12676 Filed 6-16-17; 8:45 am]

BILLING CODE 6717-01-P